INTERNATIONAL TRADE COMMISSION

[Investigation No. 701-TA-461 (Final)]

Ni-Resist Piston Inserts From Korea

AGENCY: United States International Trade Commission.

ACTION: Termination of investigation.

SUMMARY: On September 21, 2009, the Department of Commerce published notice in the Federal Register of a negative final determination of subsidies in connection with the subject investigation (Ni-Resist Piston Inserts from the Republic of Korea: Final Negative Countervailing Duty Determination, 74 FR 48059, September 21, 2009). Accordingly, pursuant to section 207.40(a) of the Commission's Rules of Practice and Procedure (19 CFR 207.40(a)), the countervailing duty investigation concerning Ni-resist piston inserts from Korea (investigation No. 701-TA-461 (Final)) is terminated.

DATES: Effective Date: September 21, 2009.

FOR FURTHER INFORMATION CONTACT: Angela M. W. Newell (202-708-5409), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

Authority: This investigation is being terminated under authority of title VII of the Tariff Act of 1930; this notice is published pursuant to section 201.10 of the Commission's rules (19 CFR 201.10).

By order of the Commission.
Issued: September 30, 2009.
Marilyn R. Abbott,
Secretary to the Commission.

[FR Doc. E9-23990 Filed 10-5-09; 8:45 am]

BILLING CODE 7020-02-P